CIVIL RIGHTS COMMISSION

Sunshine Act Meeting Notice

AGENCY: United States Commission on Civil Rights.

ACTION: Notice of Commission Public Briefing, Racial Disparities in Maternal Health.

DATES: Friday, March 20, 2020, 9:00 a.m. Eastern Time (ET).

ADDRESSES: Place: National Place Building, 1331 Pennsylvania Ave. NW, Suite 1150, Washington, DC 20245 (Entrance on F Street NW).

FOR FURTHER INFORMATION CONTACT: Zakee Martin, (202) 376-8359; TTY: 711 (202) 376-7700; publicaffairs@usccr.gov.

SUPPLEMENTARY INFORMATION: The U.S. Commission on Civil Rights will hold a briefing on March 20, 2020, to examine racial disparities in maternal health. The Commission is studying the federal role in preventing negative pregnancy-related health outcomes and pregnancy-related deaths of women in the U.S. The Commission will analyze current data regarding pregnancy-related and pregnancy-associated deaths, including data collected by the Centers for Disease Control and Prevention (CDC), the National Institute of Minority Health and Health Disparities, and the Department of Health and Human Services' (HHS) State Partnership Initiative to Address Health Disparities. The Commission's investigation and subsequent report will aim to inform work being carried out in the federal government to address racial disparities in maternal health outcomes.

This briefing is open to the public. We will offer an open comment session in which members of the public will have an opportunity to address the Commission; detailed information, including on registering for a five-minute speaking slot, can be viewed here. Individuals may attend the briefing without the need to confirm attendance or RSVP.

The event will also live-stream. (Information subject to change.) There will also be a public call-in line (listen-only): 800-822-2024, conference ID: 152-9122. If attending in person, we ask that you RSVP to publicaffairs@usccr.gov.

A trauma specialist will be available on site. Sign language interpreters and computer assisted real-time transcription (CART) will be provided. Please note that CART is text-only translation that occurs in real time during the meeting and is not an exact transcript. To inquire about additional accommodations, please email access@usccr.gov or contact Pamela Dunston at (202) 376-8105 by Friday, March 13, 2020.

The Commission welcomes the submission of additional material for consideration as we prepare our report; please submit to maternalhealth@usccr.gov no later than April 20, 2020. Stay abreast of updates at www.usccr.gov and on Twitter and Facebook.

Agenda

Introductory Remarks: Chair Catherine E. Lhamon: 9:00 a.m.-9:10 a.m.

Panel One: Understanding the Research and Impact of Racial Disparities on Pregnancy and Childbirth: 9:10 a.m.-10:40 a.m.

Break: 10:40 a.m.-10:50 a.m.

Panel Two: Policy and Legislation: 10:50 a.m.-12:10 p.m.

Break: 12:10 p.m.-1:10 p.m.

Panel Three: Service Providers/Private Organizations: 1:10 p.m.-2:30 p.m.

Break: 2:30 p.m.-2:40 p.m.

Panel Four: Lived Experience: 2:40 p.m.-4:00 p.m.

Break: 4:00 p.m.-5:00 p.m.

Open Public Comment Session: 5:00 p.m.-6:30 p.m.

Adjourn Briefing: 6:30 p.m.

David Mussatt,
Supervisory Chief, Regional Programs Unit.

[FR Doc. 2020-05346 Filed 3-11-20; 4:15 pm]

BILLING CODE P